AGENCY FOR INTERNATIONAL DEVELOPMENT

Board for International Food and Agricultural Development Public Meeting March 25, 2020, Correction

AGENCY: U.S. Agency for International Development.

ACTION: Notice; correction.

SUMMARY: The public meeting of the Board for International Food and Agricultural Development (BIFAD) previously scheduled for March 25, 2020, Agricultural Growth, Structural Transformation, and the Journey to Self-Reliance: Implications for USAID Programming, has been postponed until a later date.

FOR FURTHER INFORMATION CONTACT: Clara Cohen, 202-712-0119, ccohen@usaid.gov.

SUPPLEMENTARY INFORMATION:

Correction: In the Federal Register notice of 2/7/2020 document number 2020-02423 (https://www.federalregister.gov/documents/2020/02/07/2020-02423/board-for-international-food-and-agricultural-development-notice-of-meeting), on p. 7265, please change the notice to read:

U.S. Agency for International Development

Board for International Food and Agricultural Development

The Board for International Food and Agricultural Development (BIFAD) public meeting previously scheduled for March 25, 2020 at the National Press Club, 529 14th St. NW, Washington, DC 20045, from 9 a.m. to 4:00 p.m., Agricultural Growth, Structural Transformation, and the Journey to Self-Reliance: Implications for USAID Programming, has been postponed until a later date. Please monitor the BIFAD website, https://www.usaid.gov/bifad, and the Federal Register for more information on the rescheduled date for the event.

Dated: March 11, 2020.
Clara Cohen,
Designated Federal Officer, BIFAD.

[FR Doc. 2020-05363 Filed 3-16-20; 8:45 am]

BILLING CODE P